DEPARTMENT OF THE INTERIOR

Bureau of Land Management

[NV-952-08-1420-BJ, 14X1109]

Filing of Plats of Survey; Nevada

AGENCY: Bureau of Land Management.

ACTION: Notice.

SUMMARY: The purpose of this notice is to inform the public and interested State and local government officials of the filing of Plats of Survey in Nevada.

EFFECTIVE DATES: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION: 1. The Plats of Survey of the following described lands were officially filed at the Nevada State Office, Reno, Nevada, on January 17, 2008:

The plat, representing the dependent resurvey of a portion of the subdivisional lines, the subdivision of section 13, and a metes-and-bounds survey in section 13, Township 15 North, Range 63 East, Mount Diablo Meridian, Nevada, under Group No. 846, was accepted January 15, 2008.

The plat, representing the dependent resurvey of a portion of the west boundary, the subdivision of section 18, and a metes-and-bounds survey in section 18, Township 15 North, Range 64 East, Mount Diablo Meridian, Nevada, under Group No. 846, was accepted January 15, 2008. The plat, in 4 sheets, representing the dependent resurvey of a portion of the subdivisional lines, the subdivision of certain sections, the metes-and-bounds survey of U.S. Highway Nos. 6, 50 and 93 through portions of sections 26 and 35, and metes-and-bounds surveys in certain sections, Township 16 North, Range 63 East, Mount Diablo Meridian, Nevada, under Group No. 847, was accepted January 15, 2008.

These surveys were executed to meet certain administrative needs of the Bureau of Indian Affairs.

2. The Plat of Survey of the following described lands was officially filed at the Nevada State Office, Reno, Nevada, on February 14, 2008.

The plat, in 2 sheets, representing the dependent resurvey of a portion of the subdivisional lines, the subdivision of section 28, and metes-and-bounds surveys in section 28, Township 20 North, Range 20 East, Mount Diablo Meridian, Nevada, under Group No. 842, was accepted February 12, 2008.

This survey was executed to meet certain administrative needs of the City of Sparks and the Bureau of Land Management.

3. The Supplemental Plats of Survey of the following described lands were officially filed at the Nevada State Office, Reno, Nevada, on February 21, 2008. The supplemental plat, showing the subdivision of former lot 20, sec. 19, Township 22 South, Range 60 East, Mount Diablo Meridian, Nevada, was accepted February 19, 2008.

The supplemental plat, showing the subdivision of former lot 13, sec. 8, Township 19 South, Range 61 East, Mount Diablo Meridian, Nevada, was accepted February 19, 2008. These supplemental plats were prepared to meet certain administrative needs of the Bureau of Land Management.

4. The Plat of Survey of the following described lands was officially filed at the Nevada State Office, Reno, Nevada, on February 28, 2008.

The plat, representing the dependent resurvey of a portion of the subdivisional lines and a portion of the subdivision-of-section lines of section 12, the further subdivision of section 12, and a metes-and-bounds survey in section 12, Township 20 South, Range 59 East, Mount Diablo Meridian, Nevada, under Group No. 838, was accepted February 26, 2008.

This survey was executed to meet certain administrative needs of the Bureau of Land Management.

5. The Plats of Survey and the Supplemental Plat of Survey of the following described lands were officially filed at the Nevada State Office, Reno, Nevada, on March 21, 2008: The plat, in 4 sheets, representing the dependent resurvey of a portion of the Third Standard Parallel North, through a portion of Range 62 East, and a portion of the subdivisional lines, the metes-and-bounds survey of the northerly right-of-way line of Headhouse Road through sections 20, 21, 29, and a portion of section 30 and the metes-and-bounds survey of U.S. Highway No. 6 through sections 9, 16, 17, 19, 20 and a portion of section 30, Township 15 North, Range 62 East, Mount Diablo Meridian, Nevada, under Group No. 844, was accepted March 19, 2008.

The supplemental plat, showing corrections to the lotting in the SE1/4 of section 27, Township 16 North, Range 63 East, Mount Diablo Meridian, Nevada, was accepted March 19, 2008.

The plat, representing the dependent resurvey of a portion of the subdivisional lines, the subdivision of sections 27 and 28, the metes-and-bounds survey of the westerly right-of-way line of U.S. Highway No. 93 through portions of sections 22 and 27, and a metes-and-bounds survey in section 22, Township 20 North, Range 64 East, Mount Diablo Meridian, Nevada, under Group No. 845, was accepted March 19, 2008.

These surveys were executed, and this supplemental plat was prepared, to meet certain administrative needs of the Bureau of Indian Affairs.

6. The Plats of Survey of the following described lands were officially filed at the Nevada State Office, Reno, Nevada, on March 27, 2008:

The plat, representing the dependent resurvey of portions of the east and north boundaries and a portion of the subdivisional lines, and the metes-and-bounds survey of the easterly right-of-way line of U.S. Highway No. 93 through section 1, Township 24 South, Range 60 East, Mount Diablo Meridian, Nevada, under Group No. 860, was accepted March 25, 2008.

The plat, representing the dependent resurvey of a portion of the west boundary, a portion of the north boundary and a portion of the subdivisional lines, and a metes-and-bounds survey in section 6, Township 12 South, Range 47 East, Mount Diablo Meridian, Nevada, under Group No. 848, was accepted March 25, 2008.

These surveys were executed to meet certain administrative needs of the Bureau of Land Management.

7. The above-listed surveys are now the basic record for describing the lands for all authorized purposes. These surveys have been placed in the open files in the BLM Nevada State Office and are available to the public as a matter of information. Copies of the surveys and related field notes may be furnished to the public upon payment of the appropriate fees.

Dated: April 2, 2008.
David D. Morlan,
Chief Cadastral Surveyor, Nevada.

[FR Doc. E8-7915 Filed 4-14-08; 8:45 am]

BILLING CODE 4310-HC-P